DEPARTMENT OF HEALTH AND HUMAN SERVICES

Substance Abuse and Mental Health Services Administration

Center for Mental Health Services; Notice of Meeting

Pursuant to Public Law 92-463, notice is hereby given that the Substance Abuse and Mental Health Services Administration (SAMHSA) Center for Mental Health Services (CMHS) National Advisory Council (NAC) will meet on July 25 and 26, 2007. In addition, notice is hereby given that the CMHS National Advisory Council Subcommittee on Consumer/Survivor Issues (Subcommittee) will meet on July 23 and 24, 2007.

The meeting of the CMHS NAC is open and will include discussion of the Center's policy issues and current administrative and legislative activities, as well as developments in Mental Health System Transformation activities.

The meeting of the CMHS Subcommittee is also open and will include fact finding activities in support of the work of the CMHS NAC. The Subcommittee ensures meaningful consumer participation through reports and recommendations on issues before the NAC.

Attendance by the public will be limited to space available. Public comments are welcome. Please communicate with the appropriate contacts listed below to make arrangements to attend, to comment or to request special accommodations for persons with disabilities.

The CMHS NAC meeting will also include the review, discussion, and evaluation of grant applications reviewed by Initial Review Groups. Therefore, this portion of the meeting will be closed to the public as determined by the Administrator, SAMHSA, in accordance with Title 5 U.S.C. 552b(c)(6) and 5 U.S.C. App. 2, Section 10(d).

Substantive program information and a roster of Council members may be obtained, either by accessing the SAMHSA Committee Web site, http://www.nac.samhsa.gov, or by contacting the CMHS National Advisory Council Executive Secretary, Ms. Dianne McSwain (see contact information below). A summary of the meeting and the transcript for the open session will also be available on the SAMHSA Committee Web site within three weeks after the meeting.

Subcommittee Name: SAMHSA, Center for Mental Health Services National Advisory Council, Subcommittee on Consumer/Survivor Issues.

Date/Time/Type: July 23, 2007, from 8:30 a.m. to 5 p.m.: Open. July 24, 2007, from 8:30 a.m. to 3 p.m.: Open.

Place: 1 Choke Cherry Road, Sugarloaf Conference Room, Rockville, MD 20857.

Contact: Chris Marshall, Consumer Affairs Specialist, SAMHSA, 1 Choke Cherry Road, Room 6-1071, Rockville, Maryland 20857, Telephone: 240-276-1330; Fax: 240-276-1340, E-mail: chris.marshall@hhs.samhsa.gov.

Committee Name: SAMHSA, Center for Mental Health Services National Advisory Council.

Date/Time/Type: July 25, 2007, from 9:30 a.m. to 12 p.m.: Closed. July 25, 2007, from 1:30 p.m. to 5:30 p.m.: Open. July 26, 2007, from 8:30 a.m. to 2:30 p.m.: Open.

Place: 1 Choke Cherry Road, Rock Creek and Great Falls Conference Rooms, Rockville, MD 20857.

Contact: Dianne McSwain, M.S.W., Executive Secretary, SAMHSA, CMHS National Advisory Council, 1 Choke Cherry Road, Room 6-1063, Rockville, Maryland 20857, Telephone: 240-276-1828; Fax: 240-276-1850. E-mail: dianne.mcswain@hhs.samhsa.gov.

This notice is being published less than 15 days prior to the meeting, due to the timing limitations imposed by the review and funding cycle.

Dated: July 6, 2007.
Sandra Stephens,
Health Scientist Administrator, Substance Abuse and Mental Health Services Administration.

[FR Doc. 07-3387 Filed 7-11-07; 8:45 am]

BILLING CODE 4162-20-M